NUCLEAR REGULATORY COMMISSION

Maximum 40-Year Licensing Terms for Certain Fuel Cycle Facilities

AGENCY: Nuclear Regulatory Commission.

ACTION: Notice.

SUMMARY: The U.S. Nuclear Regulatory Commission (NRC) has established a new policy extending the maximum license term for certain 10 CFR Part 70 fuel cycle licensees who are required to submit Integrated Safety Analysis (ISA) summaries for approval. Such license terms are being extended from the current 10-year period to a 40-year period, on the next renewal of the affected license. The NRC is also extending the maximum license term to a 40-year period for new 10 CFR Part 70 license applicants, where the applicant is required to submit an ISA summary for approval. The 10-year term has been a matter of policy and practice since 1990 (55 FR 24948; June 19, 1990); it is not codified in the regulations.

The NRC added Subpart H requirements to 10 CFR part 70 on September 18, 2000 (65 FR56211). The Subpart H requirements apply to licensees possessing greater than a critical mass of special nuclear material. Under Subpart H, both new applicants and existing licensees are required to conduct an ISA and submit an ISA summary to the NRC for approval. An ISA is a systematic analysis to identify facility and external hazards; potential accident sequences, including likelihood and consequences; and items relied on for safety to prevent potential accidents or mitigate the consequences.

Licensees are required to keep their ISAs up-to-date. In addition to the initial ISA summary, licensees must submit the following information to the NRC: certain facility changes for the NRC's approval; annual summaries of facility changes that did not need the NRC's preapproval; and annual updates to the ISA summaries.

Before the Subpart H requirements were implemented, the NRC relied on the 10-year license renewal as the main opportunity to review the facility safety basis. Now, along with the annual updates of the ISA summaries, the NRC is conducting more frequent reviews of the licensees' facility safety basis. Through the annual update of the ISA summaries, the NRC is kept informed of changes due to material degradation and aging throughout the lifetime of a facility. Thus, the Subpart H requirements permit the NRC to continue to support safe operations of licensed facilities on an ongoing basis, regardless of the duration of the license.

On August 24, 2006, the NRC staff provided the Commission with a paper, SECY-06-0186, ‘Increasing Licensing Terms for Certain Fuel Cycle Facilities,’ which recommended that the Commission approve a maximum license term of 40 years for certain fuel cycle facilities. The paper provided the basis for the staff's recommendation, including a description of the link with 10 CFR Part 70 reviews and a discussion of consistency with the NRC strategic goals for safety and effectiveness. In response to SECY-06-0186, the Commission issued a staff requirements memorandum (SRM) establishing the new policy described above. The Commission also approved of license terms for less than 40 years, on a case-by-case basis, where there are concerns with safety risk to the facility or in cases involving a new process or technology.

SECY-06-0186 and the SRM on SECY-06-0186 are available in the NRC's Public Document Room or electronically from the ADAMS Publicly Available Records (PARS) component on the NRC Web site, http://www.nrc.gov (the Electronic Reading Room).

FOR FURTHER INFORMATION CONTACT: Breeda Reilly, Project Manager, Fuel Manufacturing Branch, Fuel Facility Licensing Directorate, Division of Fuel Cycle Safety and Safeguards, Office of Nuclear Material Safety and Safeguards, U.S. Nuclear Regulatory Commission, Washington, DC 20555. Telephone: (301) 415-8103; fax: (301) 415-5955; e-mail: bmr@nrc.gov.

Dated at Rockville, Maryland this 21st day of November, 2006.
For the U.S. Nuclear Regulatory Commission.
Gary S. Janosko,
Deputy Director, Fuel Facility Licensing Directorate, Division of Fuel Cycle Safety and Safeguards, Office of Nuclear Material Safety and Safeguards.

[FR Doc. E6-20412 Filed 12-1-06; 8:45 am]

BILLING CODE 7590-01-P